NUCLEAR REGULATORY COMMISSION

Notice of Issuance of Regulatory Guide and the Withdrawal of Regulatory Guide

AGENCY: Nuclear Regulatory Commission.

ACTION: Notice of Issuance and Availability of Regulatory Guide (RG) 3.11, Revision 3, and the withdrawal of Revision 1 of RG 3.11.1.

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) is issuing a revision to an existing guide in the agency's “Regulatory Guide” series and the withdrawal of a regulatory guide. This series was developed to describe and make available to the public information such as methods that are acceptable to the NRC staff for implementing specific parts of the agency's regulations, techniques that the staff uses in evaluating specific problems or postulated accidents, and data that the staff needs in its review of applications for permits and licenses.

Revision 3 of RG 3.11, “Design, Construction, and Inspection of Embankment Retention Systems at Uranium Recovery Facilities,” was issued with a temporary identification as Draft Regulatory Guide, DG-3032. This guide describes some engineering practices and methods generally considered by the NRC staff to be satisfactory for the design, construction, and inspection of embankment retention systems used for retaining liquid and solid wastes from uranium recovery operations. These practices and methods are the result of NRC review and action on a number of specific cases, and they reflect the latest general engineering approaches that are acceptable to the NRC staff. If future information results in alternative methods, the NRC staff will review such methods to determine their acceptability.

DG-3032 updated and combined the guidance in Revision 2 of RG 3.11, and Revision 1 of RG 3.11.1, “Operational Inspection and Surveillance of Embankment Retention Systems for Uranium Mill Tailings.” For this reason, Revision 1 of RG 3.11.1 is being withdrawn.

II. Further Information

In February 2008, DG-3032 was published with a public comment period of 60 days from the issuance of the guide. The public comment period closed on May 16, 2008. The staff's responses to the public comments are located in the NRC's Agencywide Documents Access and Management System (ADAMS), Accession Number ML082380161.

Electronic copies of Revision 3 of RG 3.11 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 4th day of November, 2008.
For the Nuclear Regulatory Commission.
Harriet Karagiannis,
Regulatory Guide Development Branch, Division of Engineering, Office of Nuclear Regulatory Research.

[FR Doc. E8-26706 Filed 11-7-08; 8:45 am]

BILLING CODE 7590-01-P